DEPARTMENT OF TRANSPORTATION

Federal Aviation Administration

14 CFR Part 39

[Docket No. FAA-2018-0762; Product Identifier 2018-NM-033-AD]

RIN 2120-AA64

Airworthiness Directives; Airbus SAS Airplanes

AGENCY: Federal Aviation Administration (FAA), DOT.

ACTION: Notice of proposed rulemaking (NPRM).

SUMMARY: We propose to supersede Airworthiness Directive (AD) 2016-07-23, which applies to all Airbus SAS Model A318, A319, A320, and A321 series airplanes. AD 2016-07-23 requires, for certain airplanes, repetitive replacements of the fixed fairing upper and lower attachment studs of both the left-hand (LH) and right-hand (RH) main landing gear (MLG); and repetitive inspections for corrosion, wear, fatigue cracking, and loose studs of each forward stud assembly of the fixed fairing door upper and lower forward attachments of both the LH and RH MLG; and replacement if necessary. AD 2016-07-23 also provides an optional terminating modification for the repetitive replacements of the fixed fairing upper and lower attachment studs. Since we issued AD 2016-07-23, we have determined that for some airplane configurations, associated fixed fairing assembly part numbers susceptible to fatigue cracking were not listed in certain service information required by AD 2016-07-23. In addition, we have determined that additional work is necessary to re-identify the fixed fairing assembly part number on certain airplanes. This proposed AD would retain the requirements of AD 2016-07-23 and, for certain airplanes, require re-identification of the LH and RH fixed fairing assemblies' part numbers. We are proposing this AD to address the unsafe condition on these products.

DATES: We must receive comments on this proposed AD by October 15, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0762; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposal. Send your comments to an address listed under the ADDRESSES section. Include “Docket No. FAA-2018-0762; Product Identifier 2018-NM-033-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2016-07-23, Amendment 39-18468 (81 FR 26115, May 2, 2016) (“AD 2016-07-23”), for all Airbus SAS Model A318, A319, A320, and A321 series airplanes. AD 2016-07-23 requires, for certain airplanes, repetitive replacements of the fixed fairing upper and lower attachment studs of both the LH and RH MLG; and repetitive inspections for corrosion, wear, fatigue cracking, and loose studs of each forward stud assembly of the fixed fairing door upper and lower forward attachment of both the LH and RH MLG; and replacement if necessary. AD 2016-07-23 also provides an optional terminating modification for the repetitive replacements of the fixed fairing upper and lower attachment studs. AD 2016-07-23 resulted from reports of in-flight loss of fixed and hinged MLG fairings, and reports of post-modification MLG fixed fairing assemblies that have wear and corrosion. We issued AD 2016-07-23 to address in-flight detachment of an MLG fixed fairing and consequent damage to the airplane.

Actions Since AD 2016-07-23 Was Issued

Since we issued AD 2016-07-23, we have determined that for some airplane configurations, associated fixed fairing assembly part numbers susceptible to fatigue cracking were not listed in certain service information required by AD 2016-07-23. In addition, we have determined that additional work is necessary to re-identify the fixed fairing assembly part number after completion of the optional terminating modification. This proposed AD would retain the requirements of AD 2016-07-23 and require re-identification of the part number of the LH and RH fixed fairing assemblies after completion of the optional terminating modification.

The European Aviation Safety Agency (EASA), which is the Technical Agent for the Member States of the European Union, has issued EASA AD 2018-0023, dated January 26, 2018; corrected February 5, 2018 (referred to after this as the Mandatory Continuing Airworthiness Information, or “the MCAI”), to correct an unsafe condition for all Airbus SAS Model A318 and A319 series airplanes; all Airbus SAS Model A320-211, A320-212, A320-214, A320-216, A320-231, A320-232, and A320-233 airplanes; and all Airbus SAS Model A321-111, A321-112, A321-131, A321-211, A321-212, A321-213, A321-231 and A321-232 airplanes. The MCAI states:

Several occurrences were reported of in-flight loss of main landing gear (MLG) fixed and hinged fairings. The majority of reported events occurred following scheduled maintenance activities. One result of the investigation was that a discrepancy between the drawing and the maintenance manuals was discovered. The maintenance documents were corrected to prevent mis-rigging of the MLG fixed and hinged fairings, which could induce fatigue cracking.

Prompted by these findings, Airbus issued Service Bulletin (SB) A320-52-1083, providing instructions for a one-time inspection of the MLG fixed fairing composite insert and the surrounding area, replacement of the adjustment studs at the lower forward position and adjustment to the new clearance tolerances. That SB was replaced by Airbus SB A320-52-1100 (modification (mod) 27716) introducing a re-designed location stud, rod end and location plate at the forward upper and lower leg fixed-fairing positions. Subsequently, reports were received of post-mod 27716/post-SB A320-52-1100 MLG fixed fairing assemblies with corrosion, which could also induce cracking.

This condition, if not detected and corrected, could lead to further cases of in-flight detachment of a MLG fixed fairing, possibly resulting in injury to persons on the ground and/or damage to the aeroplane.

To address this potential unsafe condition, EASA issued AD 2014-0096 to require repetitive detailed inspections (DET) of the MLG fixed fairings, and, depending on findings, accomplishment of applicable corrective actions. That [EASA] AD also prohibited installation of certain MLG fixed fairing rod end assemblies and studs as replacement parts on aeroplanes incorporating Airbus mod 27716 in production, or modified in accordance with Airbus SB A320-52-1100 (any revision) in service.

Since EASA AD 2014-0096 was issued, Airbus developed an alternative inspection programme to meet the [EASA] AD requirements. In addition, a terminating action (mod 155648) was developed, which was made available for in-service aeroplanes through Airbus SB A320-52-1165.

Consequently, EASA issued AD 2015-0001 (later revised), retaining the requirements of EASA AD 2014-0096, which was superseded, and adding an optional terminating action for the repetitive inspections. For post-mod aeroplanes, i.e. incorporating Airbus mod 155648 in production, or modified by Airbus SB A320-52-1165 in service, the only remaining requirement was to ensure that pre-mod components are no longer installed.

Since EASA AD 2015-0001R1 [which corresponds to FAA AD 2016-07-23] was issued, Airbus revised SB A320-52-1165 to include additional work, to re-identify the fairing assembly part number (P/N). During the preparation of this additional work, it was noted that several configurations and associated P/N were not listed in the original SB, which may have an impact on aeroplanes on which SB A320-52-1165 original issue or Revision (rev.) 01 was already accomplished. It has also been noticed that the instructions for reidentification of two P/N were not correct in revision 02 of this SB.

For the reasons described above, this [EASA] AD retains the requirement of EASA AD 2015-0001R1, which is superseded, but requires using the SB at rev. 03.

This [EASA] AD also requires accomplishment of additional work [re-identification of the part number for the LH and RH fixed fairing assemblies] for those aeroplanes on which parts were replaced in accordance with the instructions of Airbus SB A320-52-1165 at original issue, rev. 01 or rev. 02 and correct (re)identification as applicable.

You may examine the MCAI in the AD docket on the internet at http://www.regulations.gov by searching for and locating Docket No. FAA-2018-0762.

Related Service Information Under 1 CFR Part 51

Airbus SAS has issued the following service information.

• Airbus Service Bulletin A320-52-1100, Revision 01, dated March 12, 1999. This service information describes procedures for modification of the airplane to post-Airbus Modification 27716 configuration (by replacing the location stud, rod end, and location plate at the forward upper and lower leg fixed-fairing positions of the MLG door assemblies). The modification includes a resonance frequency inspection for debonding of the composite insert and delamination of the honeycomb area around the insert, and applicable corrective actions. Corrective actions include repairing the insert. The actions in this service information are an optional terminating modification.

• Airbus Service Bulletin A320-52-1163, Revision 01, including Appendix 01, dated June 22, 2015. This service information describes procedures for inspection of the fixed fairing door upper and lower forward attachments of the LH and RH MLG, and replacement of the fixed fairing upper and lower attachment studs of the LH and RH MLG.

• Airbus Service Bulletin A320-52-1165, Revision 03, excluding Appendix 01 and including Appendix 02, dated November 9, 2017. The service information describes procedures for replacing the fixed fairing attachment stud assemblies of the MLG door assembly with new assemblies, and re-identifying the part number of the LH and RH MLG fixed fairing assemblies. The actions in this service information are an optional terminating modification.

The service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Proposed Requirements of This NPRM

This proposed AD would retain all of the requirements of AD 2016-07-23. This proposed AD would require accomplishing the actions specified in the service information described previously.

Costs of Compliance

We estimate that this proposed AD affects 901 airplanes of U.S. registry. We estimate the following costs to comply with this proposed AD:

Estimated Costs
Labor cost | Parts cost | Cost per product | Cost on U.S. operators
18 work-hours × $85 per hour = $1,530 | $4,110 | $5,640 | $5,081,640

Estimated Costs for Optional Actions
Labor cost | Parts cost | Cost per product
Up to 18 work-hours × $85 per hour = $1,530 | Up to $4,110 | Up to $5,640

We estimate the following costs to do any necessary replacements or re-identifications that would be required based on the results of the inspection. We have no way of determining the number of aircraft that might need these replacements or re-identifications:

On-Condition Costs
Labor cost | Parts cost | Cost per product
Up to 20 work-hours × $85 per hour = $1,700 | Up to $4,110 | Up to $5,810

According to the manufacturer, some or all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-07-23, Amendment 39-18468 (81 FR 26115, May 2, 2016), and adding the following new AD:

Airbus SAS: Docket No. FAA-2018-0762; Product Identifier 2018-NM-033-AD.

(a) Comments Due Date

We must receive comments by October 15, 2018.

(b) Affected ADs

This AD replaces AD 2016-07-23, Amendment 39-18468 (81 FR 26115, May 2, 2016) (“AD 2016-07-23”).

(c) Applicability

This AD applies to the Airbus SAS airplanes identified in paragraphs (c)(1) through (c)(4) of this AD, certificated in any category, all manufacturer serial numbers.

(1) Model A318-111, A318-112, A318-121, and A318-122 airplanes.

(2) Model A319-111, A319-112, A319-113, A319-114, A319-115, A319-131, A319-132, and A319-133 airplanes.

(3) Model A320-211, A320-212, A320-214, A320-216, A320-231, A320-232, and A320-233 airplanes.

(4) Model A321-111, A321-112, A321-131, A321-211, A321-212, A321-213, A321-231 and A321-232 airplanes.

(d) Subject

Air Transport Association (ATA) of America Code 52, Doors.

(e) Reason

This AD was prompted by reports of in-flight loss of fixed and hinged main landing gear (MLG) fairings, and reports of post-modification MLG fixed fairing assemblies that have wear and corrosion. This AD was also prompted by a determination that for some airplane configurations, associated fixed fairing assembly part numbers susceptible to fatigue cracking were not listed in certain service information required by AD 2016-07-23. In addition, we have determined that additional work is necessary to re-identify the fixed fairing assembly part number on certain airplanes. We are issuing this AD to prevent in-flight detachment of an MLG fixed fairing and consequent damage to the airplane.

(f) Compliance

Comply with this AD within the compliance times specified, unless already done.

(g) Retained Repetitive Replacements, With No Changes

This paragraph restates the requirements of paragraph (g) of AD 2016-07-23, with no changes. For airplanes in pre-Airbus Modification 27716 and pre-Airbus Service Bulletin A320-52-1100 configuration, with any of the components installed that are identified in paragraphs (g)(1) through (g)(5) of this AD: At the applicable compliance time specified in paragraph (h) of this AD, replace fixed fairing upper and lower attachment studs of both left-hand (LH) and right-hand (RH) MLG, in accordance with the Accomplishment Instructions of Airbus Service Bulletin A320-52-1163, Revision 01, including Appendix 01, dated June 22, 2015. Repeat the replacements thereafter at intervals not to exceed 6,500 flight cycles.

(1) Plate—support having part number (P/N) D5284024820000.

(2) Plate—support having P/N D5284024820200.

(3) Stud—adjustment having P/N D5284024420000.

(4) Rod end assembly (lower) having P/N D5284000500000.

(5) Rod end assembly (upper) having P/N D5284000600000.

(h) Retained Compliance Times for the Requirements of Paragraph (g) of This AD, With No Changes

This paragraph restates the requirements of paragraph (h) of AD 2016-07-23, with no changes. For airplanes identified in paragraph (g) of this AD, except as provided by paragraph (o) of this AD: Do the initial replacement required by paragraph (g) of this AD at the latest of the times specified in paragraphs (h)(1) through (h)(4) of this AD.

(1) Before the accumulation of 6,500 total flight cycles since the airplane's first flight.

(2) Within 6,500 flight cycles since the last installation of a pre-Airbus Modification 27716 stud on the airplane.

(3) Within 1,500 flight cycles after June 6, 2016 (the effective date of AD 2016-07-23).

(4) Within 8 months after June 6, 2016 (the effective date of AD 2016-07-23).

(i) Retained Repetitive Inspections, With No Changes

This paragraph restates the requirements of paragraph (i) of AD 2016-07-23, with no changes. For airplanes in post-Airbus Modification 27716 or post-Airbus Service Bulletin A320-52-1100 configuration, with any of the components installed that are identified in paragraphs (i)(1), (i)(2), and (i)(3) of this AD: At the applicable compliance time specified in paragraph (j) of this AD, do a detailed inspection of the LH and RH MLG forward stud assemblies of the fixed fairing door upper and lower forward attachments of both LH and RH MLG for indications of corrosion, wear, fatigue cracking, and loose studs, in accordance with the Accomplishment Instructions of Airbus Service Bulletin A320-52-1163, Revision 01, including Appendix 01, dated June 22, 2015. Repeat the detailed inspection thereafter at intervals not to exceed 12 months. Replacement of both LH and RH MLG forward stud assemblies on an airplane, in accordance with the Accomplishment Instructions of Airbus Service Bulletin A320-52-1163, Revision 01, including Appendix 01, dated June 22, 2015, extends the interval for the next detailed inspection to 72 months; and the inspection must be repeated thereafter at intervals not to exceed 12 months.

(1) Stud—adjustment having P/N D5285600720000.

(2) Rod end assembly (lower) having P/N D5285600400000.

(3) Rod end assembly (upper) having P/N D5285600500000.

(j) Retained Compliance Times for the Requirements of Paragraph (i) of This AD, With No Changes

This paragraph restates the requirements of paragraph (j) of AD 2016-07-23, with no changes. For airplanes identified in paragraph (i) of this AD, except as provided by paragraph (o) of this AD: Do the initial inspection required by paragraph (i) of this AD at the latest of the times specified in paragraphs (j)(1) through (j)(4) of this AD.

(1) Before the accumulation of 72 months since the airplane's first flight.

(2) Within 72 months since the last installation of a post-Airbus Modification 27716 assembly or since accomplishment of the actions specified in Airbus Service Bulletin A320-52-1100.

(3) Within 1,500 flight cycles after June 6, 2016 (the effective date of AD 2016-07-23).

(4) Within 8 months after June 6, 2016 (the effective date of AD 2016-07-23).

(k) Retained Corrective Action, With Revised Service Information

This paragraph restates the requirements of paragraph (k) of AD 2016-07-23, with revised service information. If any discrepancy (including any indication of corrosion, wear, fatigue cracking, or loose studs) of any MLG forward stud assembly is found during any inspection required by paragraph (i) of this AD, except as specified in paragraph (l) of this AD: Before further flight, replace the discrepant upper and lower fixed fairing forward stud assemblies of the LH and RH MLG, in accordance with the Accomplishment Instructions of Airbus Service Bulletin A320-52-1163, Revision 01, including Appendix 01, dated June 22, 2015; or Airbus Service Bulletin A320-52-1165, Revision 01, dated October 23, 2015, excluding Appendix 01, dated November 3, 2014, and including Appendix 02, dated October 23, 2015; or Airbus Service Bulletin A320-52-1165, Revision 03, excluding Appendix 01 and including Appendix 02, dated November 9, 2017. As of the effective date of this AD only Airbus Service Bulletin A320-52-1163, Revision 01, including Appendix 01, dated June 22, 2015; or Airbus Service Bulletin A320-52-1165, Revision 03, excluding Appendix 01 and including Appendix 02, dated November 9, 2017, may be used.

(l) Retained Corrective Action or Repetitive Inspections for Certain Corrosion Findings, With Revised Service Information

This paragraph restates the requirements of paragraph (l) of AD 2016-07-23, with revised service information. If any corrosion is found during any inspection required by paragraph (i) of this AD on any MLG fixed fairing forward stud assembly (upper, lower, LH or RH), but the corroded stud is not loose: Do the action specified in paragraph (l)(1) or (l)(2) of this AD.

(1) Before further flight, replace the affected assembly, in accordance with the Accomplishment Instructions of Airbus Service Bulletin A320-52-1163, Revision 01, including Appendix 01, dated June 22, 2015; or Airbus Service Bulletin A320-52-1165, Revision 01, dated October 23, 2015, excluding Appendix 01, dated November 3, 2014, and including Appendix 02, dated October 23, 2015; or Airbus Service Bulletin A320-52-1165, Revision 03, excluding Appendix 01 and including Appendix 02, dated November 9, 2017. As of the effective date of this AD only Airbus Service Bulletin A320-52-1163, Revision 01, including Appendix 01, dated June 22, 2015; or Airbus Service Bulletin A320-52-1165, Revision 03, excluding Appendix 01 and including Appendix 02, dated November 9, 2017, may be used.

(2) Within 4 months after finding corrosion, and thereafter at intervals not to exceed 4 months, do a detailed inspection for indications of corrosion, wear, fatigue cracking, and loose studs of the forward stud assembly of the affected (LH or RH) MLG, in accordance with the Accomplishment Instructions of Airbus Service Bulletin A320-52-1163, Revision 01, including Appendix 01, dated June 22, 2015.

(m) Retained Corrective Action for Inspections Specified in Paragraph (l)(2) of This AD, With Revised Service Information

This paragraph restates the requirements of paragraph (m) of AD 2016-07-23, with revised service information. If any indication of wear, fatigue cracking, or loose studs of any forward stud assembly is found during any inspection required by paragraph (l)(2) of this AD: Before further flight, replace the affected (LH or RH) MLG fixed fairing forward stud assembly, in accordance with the Accomplishment Instructions of Airbus Service Bulletin A320-52-1163, Revision 01, including Appendix 01, dated June 22, 2015; or Airbus Service Bulletin A320-52-1165, Revision 01, dated October 23, 2015, excluding Appendix 01, dated November 3, 2014, and including Appendix 02, dated October 23, 2015; or Airbus Service Bulletin A320-52-1165, Revision 03, excluding Appendix 01 and including Appendix 02, dated November 9, 2017. As of the effective date of this AD only Airbus Service Bulletin A320-52-1163, Revision 01, including Appendix 01, dated June 22, 2015; or Airbus Service Bulletin A320-52-1165, Revision 03, excluding Appendix 01 and including Appendix 02, dated November 9, 2017, may be used.

(n) Retained Terminating Action, With Revised Service Information

This paragraph restates the requirements of paragraph (n) of AD 2016-07-23, with revised service information.

(1) Replacement of parts on an airplane, as required by paragraph (g), (k), (l)(1), or (m) of this AD, does not constitute terminating action for the repetitive inspections required by paragraph (i) of this AD, except as specified in paragraph (n)(3) of this AD.

(2) The repetitive replacements required by paragraph (g) of this AD may be terminated by modification of the airplane to post-Airbus Modification 27716 configuration, including a resonance frequency inspection for debonding of the composite insert and delamination of the honeycomb area around the insert, and all applicable corrective actions, in accordance with the Accomplishment Instructions of Airbus Service Bulletin A320-52-1100, Revision 01, dated March 12, 1999, provided all applicable corrective actions are done before further flight. Thereafter, refer to paragraph (i) of this AD to determine the compliance time for the next detailed inspection required by this AD.

(3) Modification of an airplane, in accordance with the Accomplishment Instructions of Airbus Service Bulletin A320-52-1165, Revision 01, dated October 23, 2015, excluding Appendix 01, dated November 3, 2014, and including Appendix 02, dated October 23, 2015; or Airbus Service Bulletin A320-52-1165, Revision 03, excluding Appendix 01 and including Appendix 02, dated November 9, 2017, constitutes terminating action for actions required by paragraphs (g) through (m) of this AD for the airplane on which the modification is done. As of the effective date of this AD only Airbus Service Bulletin A320-52-1165, Revision 03, excluding Appendix 01 and including Appendix 02, dated November 9, 2017, may be used.

(o) Retained Exceptions to Certain AD Actions, With No Changes

This paragraph restates the requirements of paragraph (o) of AD 2016-07-23, with no changes. An airplane on which Airbus Modification 155648 has been embodied in production is not affected by the requirements of paragraphs (g) and (i) of this AD, provided that no affected component, identified by part number as specified in paragraphs (g)(1) through (g)(5) and (i)(1) through (i)(3) of this AD, has been installed on that airplane since first flight of the airplane.

(p) Retained Parts Installation Prohibition, With No Changes

This paragraph restates the requirements of paragraph (p) of AD 2016-07-23, with no changes.

(1) For airplanes in pre-Airbus Modification 27716 or pre-Airbus Service Bulletin A320-52-1100 configuration: No person may install a component identified in paragraphs (g)(1) through (g)(5) of this AD on any airplane after doing the actions provided in paragraph (n)(2) of this AD.

(2) For airplanes in post-Airbus Modification 27716 or post Airbus Service Bulletin A320-52-1100 configuration: As of the effective date of this AD, no person may install a component identified in paragraphs (g)(1) through (g)(5) of this AD on any airplane.

(3) For airplanes in pre-Airbus Modification 155648 or pre-Airbus Service Bulletin A320-52-1165 configuration: No person may install a component identified in paragraphs (g)(1) through (g)(5) and (i)(1) through (i)(3) of this AD on any airplane after doing the actions provided in paragraph (n)(3) of this AD.

(4) For airplanes in post-Airbus Modification 155648 or post-Airbus Service Bulletin A320-52-1165 configuration: As of the effective date of this AD, no person may install a component identified in (g)(1) through (g)(5) and (i)(1) through (i)(3) of this AD on any airplane.

(q) Retained No Reporting Requirement, With No Changes

This paragraph restates the requirements of paragraph (q) of AD 2016-07-23, with no changes. Although Airbus Service Bulletin A320-52-1163, Revision 01, including Appendix 01, dated June 22, 2015, specifies to submit certain information to the manufacturer, and specifies that action as “RC” (Required for Compliance), this AD does not include that requirement.

(r) New Requirement of This AD: Additional Work

For any airplane on which, before the effective date of this AD, any part was installed or replaced, in accordance with the Accomplishment Instructions of Airbus Service Bulletin A320-52-1165, dated November 3, 2014; Revision 01, dated October 13, 2015; or Revision 02, dated February 12, 2016: Within 12 months after the effective date of this AD, accomplish the instructions identified as “additional work” in the Accomplishment Instructions of Airbus Service Bulletin A320-52-1165, Revision 03, excluding Appendix 01 and including Appendix 02, dated November 9, 2017, as applicable to the airplane configuration.

(s) New Terminating Action

Modification of an airplane in accordance with the Accomplishment Instructions of Airbus Service Bulletin A320-52-1165, Revision 03, excluding Appendix 01 and including Appendix 02, dated November 9, 2017, or as specified in paragraph (r) of this AD constitutes terminating action for the requirements of paragraphs (g), (i), (k), (l), and (m) of this AD for that airplane.

(t) New Parts Installation Prohibition

(1) Do not install on any airplane a component specified in paragraphs (g)(1) through (g)(5) of this AD, as required by paragraph (t)(1)(i) or (t)(1)(ii) of this AD, as applicable.

(i) For airplanes in pre-Airbus Modification 27716 or pre-Airbus Service Bulletin A320-52-1100 configuration: After completing the optional modification specified in paragraph (n)(2) of this AD.

(ii) For airplanes in post-Airbus Modification 27716 or post Airbus Service Bulletin A320-52-1100 configuration: As of the effective date of this AD.

(2) Do not install on any airplane a component specified in paragraphs (g)(1) through (g)(5) of this AD or paragraphs (i)(1) through (i)(3) of this AD, as required by paragraph (t)(2)(i) or (t)(2)(ii) of this AD, as applicable.

(i) For airplanes in pre-Airbus Modification 155648 or pre-Airbus Service Bulletin A320-52-1165, Revision 03, excluding Appendix 01 and including Appendix 02, dated November 9, 2017, configuration: After completion of the additional work required by paragraph (r) of this AD.

(ii) For airplanes in post-Airbus Modification 155648 or post-Airbus Service Bulletin A320-52-1165, Revision 03, excluding Appendix 01 and including Appendix 02, dated November 9, 2017, configuration: As of the effective date of this AD.

(u) Credit for Previous Actions

(1) This paragraph provides credit for optional actions provided by paragraph (n)(2) of this AD, if those actions were performed before the effective date of this AD using Airbus Service Bulletin A320-52-1100, dated December 7, 1998.

(2) This paragraph provides credit for the actions required by paragraphs (g), (i), (k), (l), and (m) of this AD, if those actions were performed before the effective date of this AD using Airbus Service Bulletin A320-52-1163, dated February 4, 2014.

(3) This paragraph provides credit for the actions required by paragraphs (k), (l)(1), (m), and (n)(3) of this AD if those actions were performed before the effective date of this AD using Airbus Service Bulletin A320-52-1165, Revision 01, dated October 23, 2015, excluding Appendix 01, dated November 3, 2014, and including Appendix 02, dated October 23, 2015.

(v) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (w)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2016-07-23 are approved as AMOCs for the corresponding provisions of this AD.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): Except as specified by paragraph (q) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(w) Related Information

(1) Refer to Mandatory Continuing Airworthiness Information (MCAI) EASA AD 2018-0023, dated January 26, 2018; corrected February 5, 2018; for related information. This MCAI may be found in the AD docket on the internet at http://www.regulations.gov by searching for and locating Docket No. FAA-2018-0762.

(2) For more information about this AD, contact Sanjay Ralhan, Aerospace Engineer, International Section, Transport Standards Branch, FAA, 2200 South 216th St., Des Moines, WA 98198; telephone and fax 206-231-3223.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Issued in Des Moines, Washington, on August 17, 2018.
Michael Kaszycki,
Acting Director, System Oversight Division, Aircraft Certification Service.

[FR Doc. 2018-18813 Filed 8-30-18; 8:45 am]

BILLING CODE 4910-13-P